DEPARTMENT OF COMMERCE

[I.D. 081004D]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Northeast Region Logbook Family of Forms.

Form Number(s): None.

OMB Approval Number: 0648-0212.

Type of Request: Regular submission.

Burden Hours: 10,907.

Number of Respondents: 4,975.

Average Hours Per Response: 4 minutes.

Needs and Uses: The National Marine Fisheries Service (NMFS) has a Red Crab Fishery Management Plan. A mandatory requirement of this plan is that vessels issued a Red Crab limited access permit must report via the Interactive Voice Response (IVR) system at the end of every trip. The vessels issued an Exempted (Experimental) Fishing Permit (EFP) may be required to report their catches via the IVR as a condition of their permit. The information submitted is needed for the management of fisheries.

Affected Public: Business or other for-profit organizations; individuals or households; not-for-profit institutions; State, Local or Tribal government.

Frequency: On occasion.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: August 9, 2004.
Gwellnar Banks,
Management Analyst, Office of the Chief Information Officer.

[FR Doc. 04-18702 Filed 8-13-04; 8:45 am]

BILLING CODE 3510-22-S